ENVIRONMENTAL PROTECTION AGENCY

40 CFR Part 52

[OH155-1b; FRL-7425-7]

Approval and Promulgation of Implementation Plans; Ohio

AGENCY: Environmental Protection Agency (USEPA).

ACTION: Proposed rule.

SUMMARY: The USEPA is proposing to approve, through direct final procedure, oxides of nitrogen (NOX) rules including an allowance trading program submitted by the Ohio Environmental Protection Agency (Ohio EPA). The implementation plan affects electric generating units (EGUs), non-EGUs and portland cement plants, and was submitted in a letter from the Ohio EPA Director on July 11, 2002, following required public process. The intent of Ohio's action is to satisfy a Federal requirement to develop a plan to control emissions from these categories of sources in order to meet the emissions budget established by USEPA for Ohio during the summer-time ozone control period. USEPA is approving this plan with the understanding that Ohio will make the minor revision to the date in Ohio's rule by which flow control will be triggered. Flow control affects all States in the trading program, and the date by which it is triggered, 2005, must be consistent for all 19 States.

In the final rules section of this Federal Register, USEPA is approving the State Implementation Plan (SIP) for NOX as a direct final rule without prior proposal because we view this action as noncontroversial and anticipate no adverse comments. If no written adverse comments are received in response to the direct final rule, no further activity is contemplated in relation to this proposed rule. If USEPA receives meaningful written adverse comments, the direct final rule will be withdrawn and all public comments received will be addressed in a subsequent final rule based on this proposed rule. If no adverse written comments are received, the direct final rule will take effect on the date stated in that document and no further activity will be taken on this proposed rule. Any party interested in commenting on this action should do so at this time.

DATES: Comments on this action must be received by February 18, 2003.

ADDRESSES: Written comments should be mailed to: J. Elmer Bortzer, Chief, Regulation Development Section, Air Programs Branch (AR-18J), USEPA, Region 5, 77 West Jackson Boulevard, Chicago, Illinois 60604.

A copy of the Ohio EPA request for revision to the SIP is available for inspection at the above address.

FOR FURTHER INFORMATION CONTACT: John Paskevicz, Environmental Engineer, Regulation Development Section, Air Programs Branch (AR-18J), USEPA, Region 5, 77 West Jackson Boulevard, Chicago, Illinois 60604, (312) 886-6084.

SUPPLEMENTARY INFORMATION: Throughout this document whenever “we,” “us,” or “our” are used we mean the USEPA.

I. What Actions Are USEPA Taking Today?

II. Where Can I Find More Information About This Proposal and Corresponding Direct Final Rule?

I. What Actions Are USEPA Taking Today?

The USEPA is proposing to approve a revision to the Ohio SIP submitted by the State which demonstrates the Ohio EPA plan will enable affected sources in the State to reduce emissions of NOX in order for the State to meet the NOX emissions budget. USEPA is making the approval with the understanding that Ohio will change the year that flow control will be triggered to 2005, from 2006 currently in Ohio's rule.

II. Where Can I Find More Information About This Proposal and Corresponding Direct Final Rule?

For additional information see the direct final rule published in the rules section of this Federal Register.

Authority: 42 U.S.C. 4201-7601q.

Dated: December 13, 2002.
Bharat Mathur,
Acting Regional Administrator, Region 5.

[FR Doc. 03-961 Filed 1-15-03; 8:45 am]

BILLING CODE 6560-50-P